DEPARTMENT OF ENERGY

Federal Energy Regulatory Commission

Sunshine Act Meeting Notice

May 13, 2010.

The following notice of meeting is published pursuant to section 3(a) of the government in the Sunshine Act (Pub. L. 94-409), 5 U.S.C. 552b:

Agency Holding Meeting: Federal Energy Regulatory Commission.

Date And Time: May 20, 2010; 10 a.m.

Place: Room 2C, 888 First Street, NE., Washington, DC 20426.

Status: Open.

Matters to be Considered: Agenda

* Note—Items listed on the agenda may be deleted without further notice.

Contact Person for More Information: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

958th—Meeting; Regular Meeting
[May 20, 2010 10 a.m.]
Item No. | Docket No. | Company
Administrative
A-1 | AD02-1-000 | Agency Administrative Matters.
A-2 | AD02-7-000 | Customer Matters, Reliability, Security and Market Operations.
A-3 | AD06-3-000 | Energy Market Assessment—2010 Summer Assessment.
Electric
E-1 | EL10-39-000 | SunZia Transmission, LLC
E-2 | OMITTED.
E-3 | OMITTED.
E-4 | OMITTED.
E-5 | OMITTED.
E-6 | ER09-1581-001, ER09-1581-003 | Midwest Independent Transmission System Operator, Inc.
E-7 | EL10-56-000 | Western Electric Coordinating Council.
E-8 | ER97-4143-021, ER97-4143-022 | AEP Service Corporation.
| ER07-1130-003, ER07-1130-004 | AEP Energy Partners, Inc.
| ER98-2075-026, ER98-2075-027 | CSW Energy Services, Inc.
| ER98-542-023, ER98-542-024 | Central and South West Services, Inc.
| ER01-1099-013 | Cleco Power LLC.
| ER02-1406-014 | Acadia Power Partners, LLC.
| ER99-2928-010 | Cleco Evangeline LLC.
| ER99-1757-016 | The Empire District Electric Company.
| ER99-1005-011 | Kansas City Power & Light Company.
| ER09-304-002 | KCP&L Greater Missouri Operations Company.
| ER98-511-013 | Oklahoma Gas and Electric Company.
| ER97-4345-025 | OGE Energy Resources, Inc.
| ER99-1610-036 | Southwestern Public Service Company.
| ER03-9-017, ER06-1313-005 | Westar Energy, Inc.
| ER98-2157-018 | Kansas Gas and Electric Company.
E-9 | ER10-902-000 | ISO New England Inc. and New England Power Pool.
E-10 | ER09-1682-000, ER09-1682-004, ER09-1682-005 | New York Independent System Operator, Inc.
E-11 | EL07-39-004, EL07-39-005, ER08-695-002, ER08-695-003 | New York Independent System Operator, Inc.
E-12 | ER09-1064-003, ER09-1064-004 | California Independent System Operator Corporation.
E-13 | ER09-1064-001 | California Independent System Operator Corporation.
E-14 | ER05-1410-015, EL05-148-015, ER09-412-008, ER09-412-010 | PJM Interconnection, L.L.C.
E-15 | EL09-11-001 | Interstate Power and Light Company v. ITC Midwest, LLC.
E-16 | ER10-73-001, ER10-74-001, ER10-73-002, ER10-74-002 | Midwest Independent Transmission System Operator, Inc.
| EL10-9-001 | Dairyland Power Cooperative v. Midwest Independent Transmission System Operator, Inc.
Gas
G-1 | RM09-2-000 | Contract Reporting Requirements of Intrastate Natural Gas Companies.
G-2 | RP10-134-000, RP10-450-000 | Columbia Gulf Transmission Company.
Hydro
H-1 | P-405-096, P-2355-012 | Exelon Generation Company, LLC.
H-2 | P-405-097 | Exelon Generation Company, LLC.
H-3 | P-13388-001, P-13389-001, P-13397-001, P-13413-001 | Northeast Hydrodevelopment, LLC.
Certificates
C-1 | CP09-68-001 | Texas Eastern Transmission, LP.
C-2 | CP06-398-002 | MoBay Storage Hub, LLC.
C-3 | CP09-420-001 | Gulf South Pipeline Company, LP.
C-4 | CP10-2-000 | Southern Star Central Gas Pipeline, Inc.
C-5 | CP09-444-000 | Tennessee Gas Pipeline Company.
C-6 | RP10-173-000 | Southern LNG Inc.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-11914 Filed 5-14-10; 11:15 am]

BILLING CODE 6717-01-P